DEPARTMENT OF THE INTERIOR

Bureau of Land Management

[LLCAC09000.L58790000.EU0000. CACA 50168]

Notice of Realty Action: Direct Sale of Public Lands in Santa Clara County, CA

AGENCY: Bureau of Land Management, Interior.

ACTION: Notice of realty action.

SUMMARY: The Bureau of Land Management (BLM), Hollister Field Office, proposes to sell three separate parcels of public land totaling approximately 212.67 acres in Santa Clara County, California. The public lands would be sold to the Santa Clara County Open Space Authority for the appraised fair market value. The total appraised value of all three parcels is $395,000.

DATES: Comments regarding the proposed sale must be received by the BLM on or before May 9, 2011.

ADDRESSES: Written comments concerning the proposed sale should be sent to the Field Manager, BLM, Hollister Field Office, 20 Hamilton Court, Hollister, California 95023.

FOR FURTHER INFORMATION CONTACT: Christine Sloand, Realty Specialist, BLM, Hollister Field Office, 20 Hamilton Court, Hollister, California 95023, or phone (831) 630-5022.

SUPPLEMENTARY INFORMATION: The following 3 parcels of public land are proposed for direct sale to the Santa Clara County Open Space Authority (Authority) in accordance with Sections 203 and 209 of the Federal Land Policy and Management Act of 1976 (FLPMA), as amended (43 U.S.C. 1713 and 1719).

The parcels are described as follows:

Mount Diablo Meridian

Parcel No. 1,

T. 10S., R. 1E.,

Sec. 3, lot 1.

The area described contains 123.60 acres in Santa Clara County.

The parcel has an appraised fair market value of $80,000.

Parcel No. 2,

T. 10S., R. 2E.,

Sec. 5, lot 2.

The area described contains 23.42 acres in Santa Clara County.

The parcel has an appraised fair market value of $135,000.

Parcel No. 3,

T. 10S., R. 2E.,

Sec. 6, lots 3, 4, and 6.

The area described contains 65.65 acres in Santa Clara County.

The parcel has an appraised fair market value of $180,000.

The public lands were first identified as suitable for disposal in the 1984 BLM Hollister Resource Management Plan (RMP) and remain available for sale under the 2007 Hollister RMP revision. The lands are not needed for any other Federal purpose, and their disposal would be in the public interest. The lands are difficult and uneconomic to manage as part of the public lands because they lack legal access, and are small parcels, isolated from other public lands. The BLM is proposing a direct sale to the Authority because the lands lack legal access and the Authority wishes to purchase the lands to preserve them as open space. The BLM has concluded the public interest would be best served by a direct sale. The BLM has completed a mineral potential report which concluded there are no known mineral values in the lands proposed for sale. The BLM proposes that conveyance of the Federal mineral interests would occur simultaneously with the sale of the lands.

On March 25, 2011, the above described lands will be segregated from appropriation under the public land laws, including the mining laws, except for the sale provisions of the FLPMA. Until completion of the sale, the BLM will no longer accept land use applications affecting the identified public lands, except application for the amendment of previously filed right-of-way applications or existing authorizations to increase the term of the grants in accordance with 43 CFR 2802.15 and 2886.15. The segregation will terminate upon issuance of a patent, publication in the Federal Register of a termination of the segregation, or on March 25, 2013, unless extended by the BLM State Director in accordance with 43 CFR 2711.1-2(d) prior to the termination date. The lands would not be sold until at least May 24, 2011. The Authority would be required to pay a $50 nonrefundable filing fee for conveyance of the mineral interests and the associated administrative costs. Any patent issued would contain the following terms, conditions, and reservations:

1. A reservation of a right-of-way to the United States for ditches and canals constructed by authority of the United States under the Act of August 30, 1890 (43 U.S.C 945);

2. A condition that the conveyance be subject to all valid existing rights of record;

3. An appropriate indemnification clause protecting the United States from claims arising out of the patentee's use, occupancy, or operations on the patented lands;

4. Additional terms and conditions that the authorized officer deems appropriate.

Detailed information concerning the proposed sale including the appraisal, planning and environmental documents, and mineral report are available for review at the location identified in ADDRESSES above.

Public Comments regarding the proposed sale may be submitted in writing to the attention of the BLM Hollister Field Manager (see ADDRESSES above) on or before May 9, 2011. Comments received in electronic form, such as e-mail, will not be considered. Any adverse comments regarding the proposed sale will be reviewed by the BLM State Director or other authorized official of the Department of the Interior, who may sustain, vacate, or modify this realty action in whole or in part. In the absence of timely filed objections, this realty action will become the final determination of the Department of the Interior. Before including your address, phone number, e-mail address, or other personal identifying information in your comment, be advised that your entire comment—including your personal identifying information—may be made publicly available at any time. While you can ask us in your comment to withhold from public review your personal identifying information, we cannot guarantee that we will be able to do so.

Authority: 43 CFR 2711.1-2(a) and (c).

Tom Pogacnik,
Deputy State Director for Natural Resources.

[FR Doc. 2011-7017 Filed 3-24-11; 8:45 am]

BILLING CODE 4310-40-P